DEPARTMENT OF THE INTERIOR

Bureau of Indian Affairs

Draft Environmental Impact Statement (DEIS) for the Colville Indian Reservation Integrated Resource Management Plan, Colville Confederated Tribes, Colville Reservation, Washington

AGENCY: Bureau of Indian Affairs, Interior.

ACTION: Notice.

SUMMARY: This notice advises the public that the Bureau of Indian Affairs intends to file a Draft Environmental Impact Statement (DEIS) for an Integrated Resource Management Plan (IRMP) for the Colville Indian Reservation, Washington, with the U.S. Environmental Protection Agency, and that the DEIS is now available for public review. Brief descriptions of the proposed action and alternatives follow as supplementary information. This notice also announces a public hearing to receive public comments on the DEIS.

DATES: Written comments must arrive by June 12, 2000. The public hearing on the DEIS will be held on April 27, 2000, starting at 7:00 p.m.

ADDRESSES: If you wish to comment, you may submit your comments by any one of several methods. You may mail or hand carry written comments to William Nicholson, Superintendent, Colville Agency, Bureau of Indian Affairs, P.O. Box 111, Nespelem, Washington 99155-0111. You may also comment via the Internet to nicholson_colville@yahoo.com. Please submit Internet comments as an ASCII file, avoiding the use of special characters and any form of encryption. Include your name and return address in your Internet message. If you do not receive a confirmation from the system that we have received your Internet message, contact us directly at (509) 634-2320.

Comments, including names and home addresses of respondents, will be available for public review at the above address during regular business hours, 7:30 a.m. to 4:00 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

The DEIS is available for review at the Colville Agency. To obtain a copy, you may contact John St. Pierre, Colville Confederated Tribes, P.O. Box 150, Nespelem, Washington 99155-0150, telephone (509) 634-2200. Copies of the DEIS have been sent to all agencies and individuals who participated in the scoping process, or who previously requested copies.

The public hearing will be held in the Conference Room at the Bureau of Indian Affairs, Colville Agency, Nespelem, Washington.

FOR FURTHER INFORMATION CONTACT: William Nicholson, (509) 634-2316.

SUPPLEMENTARY INFORMATION: The Bureau of Indian Affairs is proposing to approve an IRMP for the approximately 1,392,265 acre Colville Indian Reservation, for the period 2000-2014. This DEIS analyzes the impacts of the proposed action, four action alternatives, and no action. Under the no action alternative (Alternative 1), there would be no change in the existing management. About 1,071.2 million board feet (MMBF) of timber would be harvested across 157,989 acres, and the range management units and allotments on the reservation would continue under current management direction.

The proposed action (Alternative 2) would implement the IRMP developed by the Colville Confederated Tribes. About 953.1 MMBF of timber would be harvested across 156,989 acres and there would be a 15 percent general reduction in range use.

Alternative 3, the IRMP with additional watershed health and wildlife habitat emphasis, calls for the harvesting of about 818.7 MMBF of timber across 119,683 acres and the withdrawal of about 269,000 acres of range allotments.

Alternative 4, the IRMP with stand structural/stage correction emphasis, emphasizes intermediate harvesting to move the structural stage class of stands on the reservation towards the desired future conditions. About 751.9 MMBF of timber would be harvested across 157,573 acres. Allowable animal unit months (AUMs) would be doubled to 121,800.

Alternative 5, the IRMP with forest health emphasis, emphasizes regenerative harvesting to reduce the existing impacts of insects and disease.

Alternative 6, the IRMP with additional forest health, watershed health and wildlife habitat emphasis, places an additional emphasis on forest and watershed health along with fish and wildlife habitat. About 1,105.1 MMBF of timber would be harvested across 123,556 acres and allowable AUM's would be reduced by 50 percent.

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: April 11, 2000.
Kevin Gover,
Assistant Secretary—Indian Affairs.

[FR Doc. 00-9396 Filed 4-13-00; 8:45 am]

BILLING CODE 4310-02-P